DEPARTMENT OF TRANSPORTATION

Research and Innovative Technology Administration

[Docket No. RITA 2009-0001]

Establishing Strategic Direction for the Intelligent Transportation Systems Program

AGENCY: Research and Innovative Technology Administration (RITA), DOT.

ACTION: Request for public comments.

SUMMARY: The U.S. Department of Transportation's (DOT) Intelligent Transportation Systems Joint Program Office (ITS JPO) is requesting public comments on the proposed direction, goals, and objectives for the multi-modal ITS Program over the next five years. Comments will be used to shape a multi-year, strategic, research agenda that will result in an ITS Program Strategic Plan in October 2009. Respondents to this RFI are invited to comment on any of the items; in particular, respondents are encouraged to address the specific questions that are featured at the end of this RFI. This RFI was prepared with the intention of insuring that all stakeholders and parties interested in ITS have the opportunity to provide input and comment on the next five-year, strategic direction for ITS research, technology transfer, and evaluation.

DATES: Comments must be submitted by May 20, 2009. Late-filed comments will be considered to the extent practicable.

ADDRESSES: You may submit comments identified by DOT Docket Number RITA 2009-0001 by any of the following methods:

○ Federal eRulemaking Portal: Go to http://www.regulations.gov. Follow the online instructions for submitting comments.

○ Mail: Docket Management Facility: U.S. Department of Transportation, 1200 New Jersey Avenue, SE., West Building Ground Floor, Room W12-140, Washington, DC 20590-0001.

○ Hand Delivery or Courier: West Building Ground Floor, Room W12-140, 1200 New Jersey Avenue, SE. between 9 a.m. and 5 p.m. ET, Monday through Friday, except Federal holidays.

○ Fax: 202-493-2251

Instructions: Identify docket number, RITA 2009-0001, at the beginning of your comments, and send two copies. To receive confirmation that DOT received your comments, include a self-addressed stamped postcard. Internet users may access all comments received by DOT at http://www.regulations.gov. All comments are posted electronically without charge or edits, including any personal information provided. Please do not send items directly to DOT staff. Items that are sent directly to DOT staff and that appear to be docket items will be submitted to the above Web site on behalf of the submitter.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov or the street address listed above. Follow the online instructions for accessing the dockets.

FOR FURTHER INFORMATION CONTACT: Suzanne M. Sloan, RVT-91, Research and Innovative Technology Administration, Volpe National Transportation Systems Center, 55 Broadway, Cambridge, MA, 02142, Phone Number: (617) 494-3282, Fax Number: (617) 494-3260, or E-mail: Suzanne.Sloan@dot.gov. For legal questions, please contact Mr. Robert Monniere, Attorney Advisor, RITA Office of the Chief Counsel, (202) 366-5498, or via e-mail at Robert.Monniere@dot.gov. Office hours for the RITA are from 7:45 a.m. to 4:15 p.m., ET, Monday through Friday, except Federal holidays.

SUPPLEMENTARY INFORMATION:

Electronic Access and Filing

You may submit or retrieve comments online through the Federal eRulemaking portal at: http://www.regulations.gov. Electronic submission and retrieval help and guidelines are available under the help section of the Web site. The Federal eRulemaking portal is available 24 hours each day, 365 days each year. Please follow the instructions. An electronic copy of this document may also be downloaded by accessing the Office of the Federal Register's home page at http://www.archives.gov or the Government Printing Office's Web page at http://www.gpoaccess.gov/nara.

Background

The U.S. Department of Transportation's (the US DOT) Intelligent Transportation Systems (ITS) Joint Program Office (JPO), part of the Research and Innovative Technology Administration (RITA), is issuing this Request for Information (RFI) to elicit comments from the public and the transportation community on future activities of the ITS Program. Respondents to this RFI are invited to comment on any of the items; in particular, respondents are encouraged to address the specific questions. This RFI was prepared with the intention of insuring that all stakeholders and parties interested in ITS have the opportunity to provide input and comment on the next five-year, strategic direction for ITS research, technology transfer, and evaluation. This input, in combination with research results of current initiatives (documented in the report, ITS Research Results: ITS Program Plan 2008 available at the following URL: http://www.itsdocs.fhwa.dot.gov/JPODOCS//REPTS_TE/14429.htm), will form the basis for the next ITS Program Strategic Plan and will provide input to the next transportation legislation.

The previous ITS Program strategic direction was established in 2004 when the US DOT realigned ITS research into a set of major initiatives with a clearly recognized federal role to conduct high-risk/high-payoff, multi-modal, technology research. This strategy and subsequent program was documented in the 2006 Five-Year ITS Program Plan (found at http://www.itsdocs.fhwa.dot.gov//JPODOCS/REPTS_TE//14289.htm), which has guided the ITS Program since 2004. Much of this research is reaching completion (documented in the 2008 Program Plan mentioned above); some of the research results have been particularly fruitful in establishing the viability of new, transformational opportunities in surface transportation safety and mobility (as well as other areas), and will continue to be pursued as part of the forthcoming research agenda.

In moving to establish the next strategic direction, the ITS JPO will guide development of the Strategic Plan in cooperation with the US DOT's ITS Management Council and ITS Strategic Planning Group (SPG). Both groups are comprised of representatives of the surface transportation modes within the US DOT that are responsible for furthering the application of advanced technologies to the transportation system across the Nation.

Through this RFI and other outreach events, the ITS JPO will engage the public and key stakeholders in the process of:

(a) Confirming the next set of goal areas for the Program;

(b) Confirming the objectives within each goal area;

(c) Identifying existing or new transportation research and development activities that are being performed by others and determine if there are joint funding opportunities that will allow the US DOT to make better use of its resources;

(d) Identifying a research agenda that stimulates the private sector market and that fosters collaboration among public, private, and academic partners; and,

(e) Identifying, for consideration, new technologies, trends, and research opportunities that are not described in this RFI.

Note: This is not a solicitation for proposals. This is specifically a request for information that will assist the ITS JPO, ITS SPG, and ITS Management Council in establishing the most feasible and robust research, technology transfer, evaluation agenda for the Nation in the next five years.

Development of the Goals and Objectives for the ITS Program

The process in use by the ITS Program to develop the goals, objectives, and the specific research programs is one that incorporates a set of traditional strategic planning activities. The flow of these activities is provided in flow chart format in the PDF version of this RFI as well as described in text format below.

The flow of activities begins with input provided by stakeholders and DOT leadership. The input is analyzed to gain an understanding of the strategic issues and needs; their associated strengths, weaknesses, opportunities, and threats (risks); their value proposition; and their alignment with the core values and principles of the ITS Program. This analysis leads to an assessment of the advanced technology needs of the Nation, which then translates into a vision and mission for the ITS Program. From the mission and vision flows the development of a set of conceptual strategic initiatives, which are substantiated through setting strategic goals and objectives; identifying performance measures for success; and ultimately developing a more concrete research program with action plans.

The intent of this RFI is to engage stakeholders in this process. The starting point for this process is the recognition of the critical role of advanced technologies in achieving the US DOT goals in the areas of Safety, Mobility, and Environmental Stewardship. To these goals, the ITS Program adds a fourth goal area—Policy—with the acknowledgement that successful ITS deployment is founded on strategic and effective policies.

In addition to these goal areas, the following two points form a critical, foundational basis for continuing the ITS Program with a new five-year strategy:

(1) To identify areas of greatest opportunity, the ITS Program has formed an initial assessment of the state of technology and transportation through a set of listening sessions conducted over the past year at public meetings and forums. Through these sessions and subsequent discussions, observations, and analysis, a theme for the next generation of the ITS Program has emerged—CONNECTIVITY. This theme recognizes that current and future wireless technology, and the connectivity that it enables, has the potential to transform the transportation industry with new capabilities and services.

(2) RESEARCH is needed to achieve the full potential of a connected transportation environment. It is the intent of the ITS Program to focus on a few, high-value research initiatives that support achieving transformational benefits in safety, mobility and system performance, and environmental stewardship through establishing connectivity among vehicles, devices introduced to the vehicle, and the infrastructure. Research will be conducted and policy set in a manner that most effectively serves the public good while leveraging market forces.

The ITS Program seeks input in order to identify the highest value areas of federal research that have the greatest potential to capitalize on the transformational power of connectivity and that have the greatest potential to deployment. The following text proposes a set of focused, strategic initiatives with associated outcomes, goals, and objectives. As funding is never adequate to meet all needs, the goals and objectives that follow intentionally focus attention in a few, high-value, critical areas.

Safety Strategic Initiative (one goal)

Outcome Sought—Significant reduction in crashes, injuries, fatalities, and associated economic costs.

Goal: Transformative safety through vehicle and infrastructure connectivity:

• Objective—Enable active safety applications (i.e., applications designed to assist vehicle operators in avoiding imminent crashes, and which require low latency communications).

• Objective—Improve safety by providing in-vehicle crash avoidance warnings, which do not require low latency communications.

• Objective—Perform the necessary research and testing to enable potential safety regulations.

• Objective—Provide a foundation for technologies to enable partial or full vehicle control.

• Objective—Enable vehicle-based applications such that they achieve program objectives without negatively impacting driver focus.

• Objective—Harmonize standards and architecture internationally around the vehicle platform.

Mobility Strategic Initiative (three goals)

Outcome Sought—Significant improvements in mobility that result in more sustainable and livable communities.

Goal (1): Capture complete, real-time information on all roads and all modes to support transformational system performance:

• Objective—Capture real-time mobility data from vehicles.

• Objective—Capture real-time system cost information across modes (parking, transit, pricing, tolling, etc.).

• Objective—Integrate real-time mobility data from all sources for use in transportation management and performance improvement.

Goal (2): Achieve transformational transportation management and system performance through applications of vehicle and infrastructure connectivity:

• Objective—Create applications and strategies for the use of real-time mobility and cost data from all sources for use by transportation managers.

• Objective—Create applications and strategies for the use of real-time mobility and cost data to ensure safe and secure freight movement.

• Objective—Create information from real-time mobility and cost data from all sources for use in traveler information.

Goal (3): Realize “next generation” electronic payment systems that support transformational system performance:

• Objective—Create interoperability of electronic payment systems across modes (parking, transit, pricing, tolls, etc.).

• Objective—Enable technology solutions in support of national policy for transportation financing.

Environment Strategic Initiative (one goal)

Outcome Sought—Reduced transportation impact on the environment and improved livability.

Goal: Enable environmental management through vehicle and infrastructure connectivity:

• Objective—Capture real-time environmental data from vehicles.

• Objective—Integrate real-time environmental data from all sources for use in transportation management and performance improvement.

• Objective—Create applications that use real-time data on environmental impact for use by transportation managers.

• Objective—Create information from real-time data on environmental impact for use in traveler information.

Policy Foundation for Deployment Strategic Initiative (One Goal)

Outcome Sought—New institutional policy and potential regulatory requirements and a foundation for effective deployment of technologies.

Goal (1): Establish an institutional foundation for deployment of safety, mobility, and environmental applications based on vehicle and infrastructure connectivity:

• Objective—Identify and research solutions to address institutional foundations, governance, privacy issues, potential regulations, and policies, both nationally and internationally, to implement transportation technologies.

• Objective—Address social equity in all goal areas to ensure that all users benefit from transportation solutions.

Within each goal area, the intent is to develop a few, focused, high value, bold programs which:

• Further US DOT goals, ITS Program mission, vision, strategic initiatives, and goals areas.

• Have the potential for a significant impact at a national scale.

• Generally address research or deployment issues that transcend a single mode or a single strategic initiative.

• Address a clear research question that would not otherwise be filled due to the fact that:

• It is too big or too risky for any one entity alone, and

• The market has too many players and no clear ownership.

• Are expected to offer a positive, measurable return on investment.

• Offer a justifiable or clear Federal role.

• Appear to be implementable, technically feasible, and have a clear champion, with supportive partners.

• Have the potential to be a catalyst for the development of a sustainable marketplace through technology transfer.

With consensus on these goals, the ITS JPO will establish teams to develop a set of proposed multi-modal research programs. Preliminary research programs will address:

• A clear business case, including alignment with ITS goals;

• A clear description of the value to the Nation;

• A plan for technology transfer;

• A plan for outreach;

• A plan for evaluation;

• A plan to research and address critical policy and institutional issues; and

• A plan to address standards and architecture needs.

Timeline

A set of multi-modal teams within US DOT will be convened at the beginning of May 2009 to develop the program proposals described above. All RFI input will be delivered to these teams. The ITS JPO expects to hold a workshop at the June 2009 ITS America Annual Meeting to solicit further input on the strategic plan and preliminary research programs. The ITS JPO use the input from this RFI to advise the DOT leadership on the ITS Program strategic research agenda. In addition to shaping this agenda, it is desired that the RFI input provide the ITS JPO with insight on:

• Next generation technologies for research and development.

• New opportunities for technology transfer.

• Identification of key metrics for program evaluation.

• Development of the next transportation legislation.

RFI Objective and Response Requirements

Respondents are asked to comment on all elements of this RFI and, specifically, to address the questions below.

(1) RFI respondents are asked to comment on the proposed content of this RFI:

a. Do the goal areas and objectives establish the foundation for an appropriate and feasible multi-year strategic research agenda for the ITS Program to pursue over the next five years?

b. What strategic issues, goal, and/or objectives do you view as vital for establishing a research agenda that provides meaningful and transformational changes for the Nation?

c. Are there research or technology development opportunities within these goal areas that are not described within this RFI? If yes, please describe them, the value of the research, and the reason for federal government involvement as opposed to private sector or academia.

d. In your opinion, if the objectives of the goal areas are met, will technology transfer within these goal areas create dynamic and sustainable markets? If yes, please identify the opportunities and risks.

e. Are there opportunities to partner that are currently not being pursued by the ITS Program? If yes, please describe the opportunity and how risk/reward would be shared. What barriers must be overcome in order for the research program to be deployed in the future?

f. Given limitations on funding, which research goals and objectives are the most important to pursue? Please explain your basis.

g. What are any remaining concerns?

(2) Additional Information:

Respondents are also encouraged to provide any additional information that describe alternative concepts, technologies, or research areas that would benefit the establishment of the next multi-year strategic agenda for the ITS Program. In particular, the ITS JPO is interested in descriptions of future technologies and systems that will build from and continue to provide transformational change to the transportation system, but that in current form, are still highly exploratory in nature.

Please note that this is NOT a solicitation for proposals, quotes, or bids. Unsolicited proposals will not be addressed by DOT staff who review the submissions to this RFI. Those parties who are interested in such matters are encouraged to consult “A Guide to Federal Highway Administration Policies and Procedures for Submitting Unsolicited Proposals”, available at the following URL: http://www.fhwa.dot.gov/AAA/gtup.htm. Also, please do not include any proprietary information in your response.

Please also note that the docket is open to the public to view the responses and any personally identifiable information will be noted. We are happy to accept responses with names associated with them, as well as those submitted anonymously.

Finally, the ITS JPO acknowledges the short duration for providing responses to this RFI and requests responses within 30 days of the issuing of this RFI.

Issued in Washington, DC on April 10, 2009.
Shelley J. Row,
Program Director, ITS Joint Program Office, Research and Innovative Technology Administration, U.S. Department of Transportation.

[FR Doc. E9-8985 Filed 4-17-09; 8:45 am]

BILLING CODE 4910-HY-P